DEPARTMENT OF AGRICULTURE

Agricultural Marketing Service

[Docket #: AMS-FV-07-0080; FV-06-326]

Proposed United States Standards for Grades of Olive Oil and Olive-Pomace Oil

AGENCY: Agricultural Marketing Service, USDA.

ACTION: Notice.

SUMMARY: The Agricultural Marketing Service (AMS) of the Department of Agriculture (USDA) is soliciting comments on the proposed revision to the United States Standards for Grades of Olive Oil. The proposal includes two major groups of oil: “olive oil,” produced from olives by mechanical means; and “olive-pomace oil,” produced using heat and a solvent to separate the oil from the olive-pomace remaining after olive oil is produced. The proposal includes new product descriptions, definitions, and requirements for the following grade designations: “U.S. Extra Virgin Olive Oil,” “U.S. Virgin Olive Oil,” “U.S. Lampante Virgin Olive Oil—Not Fit for Human Consumption,” “U.S. Refined Olive Oil,” “U.S. Olive Oil,” “U.S. Olive-Pomace Oil,” “U.S. Refined Olive-Pomace Oil,” and “U.S. Crude Olive-Pomace Oil.” The proposed revisions to the grade standards are intended to provide a uniform language for commerce and the use of the standards would be voluntary. The proposed standards include objective criteria for determining quality and purity among the grades of olive oil and olive-pomace oil, thereby facilitating the marketing of olive oil and olive-pomace oil.

DATES: Comments must be submitted on or before August 1, 2008.

ADDRESSES: Interested persons are invited to submit written comments concerning this notice. Written comments may be mailed to Chere L. Shorter, Assistant Head, Inspection and Standardization Section, Processed Products Branch (PPB), Fruit and Vegetable Programs (FV), AMS, USDA, 1400 Independence Avenue SW., Room 0709, South Building; STOP 0247, Washington, DC 20250; telephone: (202) 720-5021; fax: (202) 690-1527; or Internet: http://www.regulations.gov. The United States Standards for Grades of Olive Oil are available either through the address cited above or by accessing the AMS website on the Internet at http://www.ams.usda.gov/processedinspection. All comments should reference the docket number, date, and page number of this issue of the Federal Register. Comments will be made available for public inspection at the above address during regular business hours, or can be viewed at: http://www.regulations.gov.

FOR FURTHER INFORMATION CONTACT: Chere L. Shorter, Assistant Section Head, Inspection and Standardization Section, USDA, AMS, FV, PPB. Telephone: (202) 720-5021 or (202) 720-4693.

SUPPLEMENTARY INFORMATION: AMS is proposing to revise the U.S. Standards for Grades of Olive Oil and establish new grade standards for Olive-Pomace Oil using the procedures that appear in Part 36 of Title 7 of the Code of Federal Regulations (7 CFR Part 36).

Section 203(c) of the Agricultural Marketing Act of 1946, as amended, (7 U.S.C. 1621-1627) directs and authorizes the Secretary of Agriculture “to develop and improve standards of quality, condition, quantity, grade and packaging, and recommend and demonstrate such standards in order to encourage uniformity and consistency in commercial practices.” AMS is committed to carrying out this authority in a manner that facilitates the marketing of agricultural commodities and makes copies of official standards available upon request. Those United States standards for grades of fruits and vegetables no longer appear in the Code of Federal Regulations but are now maintained by USDA, AMS, FV Programs.

Background

AMS received a petition from the California Olive Oil Council (COOC), an association of olive oil producers, requesting the revision of the United States Standards for Grades of Olive Oil to reflect current industry standards commonly accepted in the United States and abroad.

The petitioners requested that the U.S. grade standards be revised to make them consistent with the International Olive Council (IOC) standards for olive and olive-pomace oil. The IOC develops standards of quality used by major olive oil producing countries, including Spain, Italy, Greece, Portugal, and Turkey. The IOC is an intergovernmental organization created by the United Nations that is headquartered in Madrid, Spain. It influences the marketing of over 95 percent of the world's olive oil production. The United States is not a member of the IOC but has observer status.

The petitioners also requested that no value be provided for linolenic acid in the fatty acid profile pending the outcome of a review of the appropriate fatty acid limits for linolenic acid by the Codex Alimentarius Commission (CAC). The CAC is a United Nations organization through which member countries, including the United States, formulate and harmonize international food standards. To date, the CAC has not made a decision on the appropriate fatty acid limits for linolenic acid.

AMS published a Notice in the November 8, 2004, Federal Register (69 FR 64713) with a thirty-day comment period to determine if there was an interest in revising the U.S. grade standards in response to the request by COOC. Thirty comments were received in response to the Federal Register notice. All of the comments are available on the AMS Web site located at http://www.ams.usda.gov/processedinspection.

With one exception, all of the comments agreed that the U.S. grade standards should be revised. One commenter, however, wanted the extra virgin olive oil free fatty acid level, expressed as oleic acid, to remain at a maximum of 1.4 percent, as in the current U.S. grade standards for “U.S. Grade A.” According to the commenter, virgin olive oils produced from old cultivars are naturally high in oleic acid content. The commenter was concerned that changing the value would force growers to uproot older trees and have to replace their old traditional presses. Olive oils extracted from older trees and by traditional stone presses have higher oleic acid content than those extracted using high speed, stainless steel mills. The commenter also stated that growers would be forced to increase pesticide usage because the lower free acidity would require a zero tolerance for pest damage.

Under AMS' proposed U.S. grade standards, a free fatty acid value (expressed as oleic acid) of 1.4 percent maximum would be graded as “U.S. Virgin Olive Oil”, one grade lower than “U.S. Extra Virgin Olive Oil”, which would have a maximum allowable percentage of 0.8 percent free fatty acid. The IOC standards include a grade for “Ordinary Virgin Olive Oil.” AMS excluded this grade because it is not produced or recognized as a grade in many countries and has flavor defects that make it unpalatable. “U.S. Lampante Virgin Olive Oil—Not Fit for Human Consumption” will have a free fatty acid value of greater than 2.0 percent. “U.S. Virgin Olive Oil” will have a free fatty acid value of not more than 2.0 percent and “U.S. Extra Virgin Olive Oil” will have a free fatty acid value of not more than 0.8 percent.

Some commenters were concerned about issues regarding truth in labeling and whether the label provides meaningful information. AMS notes that labeling issues are under the jurisdiction of the Food and Drug Administration.

Another commenter stated that the food service industry is penalized because of the lack of a regulation or standard of identity for olive oil, an ingredient used by major food companies. Standards of identity are established by the Food and Drug Administration and there is currently no regulation or standard of identity for olive oil or olive-pomace oil.

AMS believes that its proposal would allow users of the standards to be assured of product quality through AMS inspection and testing. Users of the inspection services could demonstrate that their product has been officially graded by using the official USDA shield on their packaging or other materials. This would help consumers and buyers differentiate between the various grades and help ensure the value of their purchases. While U.S. grade standards are not regulatory, by establishing terms that can objectively define product quality, the standards can help ensure that consumers get what they expect when they purchase certain food products.

All processed fruit and vegetable products that are inspected and graded undergo a review process where samples of graded product are sent to either AMS Headquarters in Washington, DC or another designated AMS Processed Products Branch field office. The samples are reviewed organoleptically by trained, experienced graders of the AMS Processed Products Branch. If the proposed standards are adopted, samples of olive oil and olive-pomace oil would undergo a similar review process by AMS. Samples representing the lot would also be sent to the AMS Science and Technology laboratory that would perform the chemical analyses.

The proposal would establish grades based on how olive oil and olive-pomace oil are produced and would determine their chemical and physical characteristics, such as flavor. The proposal would also establish analytical methods for determining compliance with the various grade requirements.

The proposed U.S. grade standards would include two major groups of oil: “olive oil,” produced from olives by mechanical means; and “olive-pomace oil,” produced using heat and a solvent to separate the oil from the olive-pomace remaining after olive oil is produced. The proposed grade standards would include new product descriptions, definitions, and requirements for the following grade designations:

1. “U.S. Extra Virgin Olive Oil,”

2. “U.S. Virgin Olive Oil,”

3. “U.S. Lampante Virgin Olive Oil—Not Fit for Human Consumption,”

4. “U.S. Refined Olive Oil,”

5. “U.S. Olive Oil,”

6. “U.S. Olive-Pomace Oil,”

7. “U.S. Refined Olive-Pomace Oil,”

8. “U.S. Crude Olive-Pomace Oil.”

Unlike the existing grade standards, the proposed standards would not use score points to determine the grade. Details of the requirements that distinguish each grade can be found in the proposed U.S. grade standards posted on the AMS Web site at http://www.ams.usda.gov/processedinspection or http://www.regulations.gov.

AMS believes that revising the grade standards would facilitate the marketing of olive oil and olive-pomace oil by adopting and carefully defining terms that are currently in use in the marketplace. AMS is soliciting comments on the proposed United States Standards for Grades of Olive Oil and Olive-Pomace Oil.

This notice provides for a 60-day comment period for interested parties to comment on the proposed grade standards.

Authority: 7 U.S.C. 1621-1627.

Dated: May 27, 2008.
Lloyd C. Day,
Administrator, Agricultural Marketing Service.

[FR Doc. E8-12226 Filed 5-30-08; 8:45 am]

BILLING CODE 3410-02-P